DEPARTMENT OF COMMERCE

National Oceanic and Atmospheric Administration

[RTID 0648-XE454]

Marine Mammals; File No. 27552

AGENCY: National Marine Fisheries Service (NMFS), National Oceanic and Atmospheric Administration (NOAA), Commerce.

ACTION: Notice; receipt of application.

SUMMARY: Notice is hereby given that NMFS' Pacific Islands Fisheries Science Center, 1845 Wasp Boulevard, Building 176, Honolulu, HI 96818 (Responsible Party: Charles Littnan, Ph.D.), has applied in due form for a permit to conduct research and enhancement activities on Hawaiian monk seals (Neomonachus schauinslandi).

DATES: Written comments must be received on or before December 9, 2024.

ADDRESSES: The application and related documents are available for review by selecting “Records Open for Public Comment” from the “Features” box on the Applications and Permits for Protected Species home page, https://apps.nmfs.noaa.gov, and then selecting File No. 27552 from the list of available applications. These documents are also available upon written request via email to NMFS.Pr1Comments@noaa.gov.

Written comments on this application should be submitted via email to NMFS.Pr1Comments@noaa.gov. Please include File No. 27552 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year permit to carry out research and enhancement activities to recover the endangered Hawaiian monk seal along beaches and nearshore waters throughout the Hawaiian Archipelago (Northwestern Hawaiian Islands and main Hawaiian Islands) and Johnston Atoll.

Research will identify impediments to recovery, inform the design of conservation interventions, and evaluate those measures. Research activities include visual and photographic monitoring, capture, tagging, pelage marking, health screening, foraging studies, deworming, necropsies, tissue sampling, behavioral modification, vocalization studies, and vaccination. Enhancement activities are designed to improve survival, reproductive success, and overall species' status. Enhancement activities include deworming, capture, translocation, hazing and removal of aggressive adult male seals, disentangling, dehooking, medical treatment, behavioral modification, vaccination, and supplemental feeding of post-release rehabilitated seals. Unintentional mortalities during research and enhancement activities are requested. Unintentional disturbance of spinner dolphins (Stenella longirostris) and bottlenose dolphins (Tursiops truncatus) during research and enhancement activities is also requested. See the application for complete numbers of animals requested by species, age-class, and procedure. Pinniped parts may be collected, received, exported, and imported for analysis.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 5, 2024.
Julia M. Harrison,
Chief, Permits and Conservation Division, Office of Protected Resources, National Marine Fisheries Service.

[FR Doc. 2024-25998 Filed 11-7-24; 8:45 am]

BILLING CODE 3510-22-P